DEPARTMENT OF TRANSPORTATION

National Highway Traffic Safety Administration

[Docket No. NHTSA-2020-0031; Notice 1]

Automobili Lamborghini Receipt of Petition for Decision of Inconsequential Noncompliance

AGENCY: National Highway Traffic Safety Administration (NHTSA), Department of Transportation (DOT).

ACTION: Receipt of petition.

SUMMARY: Automobili Lamborghini has determined that certain model year (MY) 2015-2020 Lamborghini Huracan motor vehicles do not fully comply with Federal Motor Vehicle Safety Standard (FMVSS) No. 108, Lamps, Reflective Devices, and Associated Equimpment. Automobili Lamborghini filed a noncompliance report dated March 4, 2020, and subsequently petitioned NHTSA on March 25, 2020, for a decision that the subject noncompliance is inconsequential as it relates to motor vehicle safety. This notice announces receipt of Automobili Lamborghini's petition.

DATES: Send comments on or before August 14, 2020.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

SUPPLEMENTARY INFORMATION:

I. Overview

Automobili Lamborghini has determined that certain MY 2015-2020 Lamborghini Huracan motor vehicles do not fully comply with the requirements of paragraph S10.18.9.2 of FMVSS No. 108, Lamps, Relective Devices, and Assoicated Equipment (49 CFR 571.108). Automobili Lamborghini filed a noncompliance report dated March 4, 2020, pursuant to 49 CFR part 573, Defect and Noncompliance Responsibility and Reports, and subsequently petitioned NHTSA on March 25, 2020, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Automobili Lamborghini's petition is published under 49 U.S.C. 30118 and 30120 and does not represent any Agency decision or other exercise of judgment concerning the merits of the petition.

II. Vehicles Involved

Approximately 4,727 MY 2015-2020 Automobili Lamborghini Huracan motor vehicles manufactured between July 30, 2014, and February 26, 2020, are potentially involved.

III. Noncompliance

Automobili Lamborghini explains that the noncompliance is that the subject vehicles are equipped with headlamp assemblies that do not fully meet the requirements in paragraph S10.18.9.2 of FMVSS No. 108. Specifically, the horizontal aim of the lower beam can be adjusted due to the absence of a blanking cap over the beam's horizontal adjustment screw.

IV. Rule Requirements

Paragraph S10.18.9.2 of FMVSS No. 108 includes the requirements relevant to this petition. The standard requires that the headlamp not be adjustable in terms of horizontal aim unless the headlamp is equipped with a horizontal vehicle headlamp aiming device (VHAD). If the headlamp has a VHAD, it is set to zero.

V. Summary of Automobili Lamborghini's Petition

The following views and arguments presented in this section, V. Summary of Automobili Lamborghini's Petition, are the views and arguments provided by Automobili Lamborghini. They have not been evaluated by the Agency and do not reflect the views of the Agency. Automobili Lamborghini described the subject noncompliance and stated their belief that the noncompliance is inconsequential as it relates to motor vehicle safety.

Automobili Lamborghini stated that the horizontal aim adjustment of the subject beams is possible, due to the absence of a blanking cap over the beam horizontal adjustment screw. Demounting the luggage compartment liner, customers, with advanced technical knowledge, can reach the horizontal adjustment screw and make the horizontal adjustment by themselves; however, Automobili Lamborghini argues that this noncompliance is inconsequential to motor vehicle safety for the following reasons:

1. First, the adjustment screw is hidden by the luggage liner when the vehicle's hood is open, so the screw is not visible.

2. Second, the Owner's Manual does not identify this screw, so no vehicle owner would ever need to try to search for and adjust the screw in question.

3. The only possibility to reach the adjustment screw without removing the luggage liner is through a small hole in the luggage liner using a long screwdriver, but without any possibility to see it and without any indication of how to do it.

4. Automobili Lamborghini is unaware of any accidents, injuries, or customer complaints related to the horizontal aim adjustment of the subject beams.

5. The issue was corrected in production during calendar week 15 (fifteen) of 2020.

Automobili Lamborghini concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Automobili Lamborghini no longer controlled at the time it determined that the noncompliance existed. However, any decision on this petition does not relieve vehicle distributors and dealers of the prohibitions on the sale, offer for sale, or introduction or delivery for introduction into interstate commerce of the noncompliant vehicles under their control after Automobili Lamborghini notified them that the subject noncompliance existed.

(Authority: 49 U.S.C. 30118, 30120: delegations of authority at 49 CFR 1.95 and 501.8).

Otto G. Matheke III,
Director, Office of Vehicle Safety Compliance.

[FR Doc. 2020-15228 Filed 7-14-20; 8:45 am]

BILLING CODE 4910-59-P